Proclamation 9510 of September 30, 2016

National Domestic Violence Awareness Month, 2016

By the President of the United States of America

A Proclamation

The physical and emotional scars of domestic violence can cast a long shadow. Too many individuals, regardless of age, ability, sex, sexual orientation, gender identity, circumstance, or race, face the pain and fear of domestic violence. During National Domestic Violence Awareness Month, we shine a light on this violation of the basic human right to be free from violence and abuse, pledge to ensure every victim of domestic violence knows they are not alone, and foster supportive communities that help survivors seek justice and enjoy full and healthy lives.

Over the past two decades, rates of domestic violence against females have dropped by nearly three-quarters—but there is still much work to do to build on the progress we have made. Nearly 1 in 4 women and 1 in 7 men have suffered from domestic violence by an intimate partner. All people deserve to feel safe with loved ones, and my Administration is committed to eliminating this scourge and supporting survivors' healing—and we must ensure that survivors and their families have access to the resources, care, and support they need to do so.

My Administration is dedicated to ensuring that all people feel safe in all aspects of their lives, which is why I proposed significant funding for responding to domestic violence in my most recent budget proposal. We have also championed legislative action like the Family Violence Prevention and Services Act, and the Affordable Care Act—which ensures that most health plans cover domestic violence screening and counseling services at no additional cost. And the Violence Against Women Act, which was reauthorized in 2013, has enhanced and expanded protections to Native Americans, immigrants, lesbian, gay, bisexual, and transgender individuals, and victims who reside in public housing.

This is progress we must continue to invest in and carry forward. Earlier this year, I announced a series of commonsense steps my Administration is taking to reduce gun violence, including work to renew our domestic violence outreach efforts. Building on the work of our Police Data Initiative, the White House is promoting smart approaches to collecting data on domestic violence offenses that balance transparency and accountability with victim safety and privacy. And victim safety should also be a priority in the workplace—a truth that extends to the Federal Government. That is why I directed all Federal agencies to adopt domestic violence workplace policies and encouraged employers to do the same.

Our agencies have taken many critical actions to advance this cause. For example, the Department of Justice has invested millions of dollars in new initiatives to prevent domestic violence homicides, urge law enforcement agencies to identify and prevent gender bias when responding to domestic violence and sexual assault, and expand services to underserved victims. And the Department of Housing and Urban Development recently issued guidance to prevent housing discrimination against survivors of domestic violence.

Vice President Joe Biden's leadership has helped guide our progress and worked to change our national culture—which too often tolerates and condones domestic violence. We are challenging harmful stereotypes associated with victims of domestic violence and striving to bring the practice of victim-blaming to an end. We must continue to recognize survivors who experience disproportionate rates of domestic violence, and who have been placed at the margins for generations, including women of color, Native Americans, individuals with disabilities, members of the LGBT community, immigrants, and older adults. Along these lines, we also joined with Canada and Mexico to create the North American Working Group on Violence against Indigenous Women and Girls, working together to enhance responses to violent crimes against indigenous women and girls in North America.

Our Nation's character is tested whenever this injustice is tolerated. When anyone is targeted by someone they place their trust in, we have a responsibility to speak up. We all have a role to play in building a bright and safe future for each other and for future generations. This month, we recommit to standing with survivors of domestic violence and to doing our utmost to extend hope and healing to all who need it. If you or someone you know needs assistance, I encourage you to reach out to the National Domestic Violence Hotline, which recently engaged in its 4 millionth conversation with victims and survivors of domestic violence, by calling 1-800-799-SAFE, or visiting www.TheHotline.org.

NOW, THEREFORE, I, BARACK OBAMA, President of the United States of America, by virtue of the authority vested in me by the Constitution and the laws of the United States, do hereby proclaim October 2016 as National Domestic Violence Awareness Month. I call on all Americans to speak out against domestic violence and support local efforts to assist victims of these crimes in finding the help and healing they need.

IN WITNESS WHEREOF, I have hereunto set my hand this thirtieth day of September, in the year of our Lord two thousand sixteen, and of the Independence of the United States of America the two hundred and forty-first.

[FR Doc. 2016-24360

Filed 10-5-16; 8:45 am]

Billing code 3295-F7-P